DEPARTMENT OF AGRICULTURE

Animal and Plant Health Inspection Service

9 CFR Parts 74 and 93

[Docket No. 00-016-1]

Importation and Interstate Movement of Certain Land Tortoises

AGENCY: Animal and Plant Health Inspection Service, USDA.

ACTION: Interim rule and request for comments.

SUMMARY: We are prohibiting, until further notice, the importation into the United States of certain land tortoises. We are also prohibiting, until further notice, the interstate movement of these land tortoises. These actions are necessary to prevent the introduction and spread of exotic ticks known to be vectors of heartwater disease, an acute infectious disease of ruminants. These actions will provide protection against an outbreak of heartwater disease in domestic and wild populations of ruminants in the United States.

DATES: This interim rule is effective March 22, 2000. However, this rule does not apply to importations that are en route to the United States. We invite you to comment on this docket. We will consider all comments that we receive by May 22, 2000.

ADDRESSES: Please send your comment and three copies to: Docket No. 00-016-1, Regulatory Analysis and Development, PPD, APHIS, Suite 3C03, 4700 River Road, Unit 118, Riverdale, MD 20737-1238.

Please state that your comment refers to Docket No. 00-016-1.

You may read any comments that we receive on this docket in our reading room. The reading room is located in room 1141 of the USDA South Building, 14th Street and Independence Avenue, SW., Washington, DC. Normal reading room hours are 8 a.m. to 4:30 p.m., Monday through Friday, except holidays. To be sure someone is there to help you, please call (202) 690-2817 before coming.

APHIS documents published in the Federal Register, and related information, including the names of organizations and individuals who have commented on APHIS dockets, are available on the Internet at http://www.aphis.usda.gov/ppd/rad/webrepor.html.

FOR FURTHER INFORMATION CONTACT: Dr. D. D. Wilson, Senior Staff Entomologist, Emergency Programs, VS, APHIS, 4700 River Road Unit 41, Riverdale, MD 20737-1231; (301) 734-8073.

SUPPLEMENTARY INFORMATION:

Background

The regulations in 9 CFR part 93 (referred to below as the animal import regulations) prohibit or restrict the importation of certain animals and birds into the United States to prevent the introduction of communicable diseases of livestock and poultry. The regulations in 9 CFR chapter I, subchapter C (referred to below as the interstate movement regulations), prohibit or restrict the interstate movement of certain animals and birds to prevent the spread of communicable diseases of livestock and poultry within the United States.

We are amending the animal import regulations to prohibit, until further notice, the importation of the following tortoises into the United States: All species and subspecies of leopard tortoise (Geochelone pardalis), African spurred tortoise (Geochelone sulcata), and Bell's hingeback tortoise (Kinixys belliana). Tortoises that are en route to the United States at the time of the publication of this interim rule will be allowed to be imported for humanitarian reasons. Refusing entry of tortoises already en route to the United States upon publication of the rule would be detrimental to the health of the tortoises and could be fatal.

In addition, we are amending the interstate movement regulations to prohibit, until further notice, the interstate movement of all species and subspecies of these land tortoises.

These actions are necessary because these tortoises, which are regularly imported into the United States and are common in the U.S. pet trade, have been found to harbor the tropical bont tick (Amblyomma variegatum), the African tortoise tick (Amblyomma marmoreum), and ticks of the species Amblyomma sparsum. All of these exotic ticks are known to be vectors of heartwater disease. Heartwater disease is an acute infectious disease of ruminants, including cattle, sheep, goats, white-tailed deer, and antelope. This disease has a 60 percent or greater mortality rate in livestock and a 90 percent or greater mortality rate in white-tailed deer.

In December 1999, it was reported that evidence indicating the presence of nucleic acid from the causative agent of heartwater disease or a related agent might have been present in Amblyomma sparsum collected from leopard tortoises imported into Florida. Subsequently, in February 2000, leopard tortoises from premises known to be infested with the African tortoise tick were moved interstate to noninfested premises. Though these incidents involve only leopard tortoises, we are also prohibiting the importation and interstate movement of African spurred tortoise and Bell's hingeback tortoise because interception records from 1995-1999 report that 90 percent of the tropical bont ticks, African tortoise ticks, and ticks of the species Amblyomma sparsum found on reptiles entering the United States occurred on these three species of land tortoise.

We are working to establish effective treatment and biosecurity protocols for tortoises and other reptiles. Effective treatment and biosecurity protocols will allow us to ensure that all tortoises and other reptiles entering the United States, as well as tortoises and other reptiles already in the United States, can be effectively treated for exotic ticks and that all exotic ticks can be eradicated from infested premises. When we have established such protocols, and when tortoises and other reptiles already in the United States have been effectively treated for exotic ticks and all exotic ticks eradicated from infested premises, the ban on importation of these tortoises from Africa, as well as the ban on interstate movement of these tortoises, will be lifted. Until that time, however, these actions will provide protection against an outbreak of heartwater disease in domestic and wild populations of ruminants in the United States.

Emergency Action

The Administrator of the Animal and Plant Health Inspection Service has determined that an emergency exists that warrants publication of this interim rule without prior opportunity for public comment. Immediate action is necessary to prevent an outbreak of heartwater disease in the United States.

Because prior notice and other public procedures with respect to this action are impracticable and contrary to the public interest under these conditions, we find good cause under 5 U.S.C. 553 to make this action effective less than 30 days after publication. We will consider comments that are received within 60 days of publication of this rule in the Federal Register. After the comment period closes, we will publish another document in the Federal Register. The document will include a discussion of any comments we receive and any amendments we are making to the rule as a result of the comments.

Executive Order 12866 and Regulatory Flexibility Act

This rule has been reviewed under Executive Order 12866. The rule has been determined to be not significant for the purposes of Executive Order 12866 and, therefore, has not been reviewed by the Office of Management and Budget.

This emergency situation makes timely compliance with section 604 of the Regulatory Flexibility Act (5 U.S.C. 601 et seq.) impracticable. We are currently assessing the potential economic effects of this action on small entities. Based on that assessment, we will either certify that the rule will not have a significant economic impact on a substantial number of small entities or publish a final regulatory flexibility analysis.

Executive Order 12372

This program/activity is listed in the Catalog of Federal Domestic Assistance under No. 10.025 and is subject to Executive Order 12372, which requires intergovernmental consultation with State and local officials. (See 7 CFR part 3015, subpart V.)

Executive Order 12988

This rule has been reviewed under Executive Order 12988, Civil Justice Reform.

This rule: (1) Preempts all State and local laws and regulations that are inconsistent with this rule; (2) Has no retroactive effect; and (3) Does not require administrative proceedings before parties may file suit in court challenging this rule.

Paperwork Reduction Act

This interim rule contains no information collection or recordkeeping requirements under the Paperwork Reduction Act of 1995 (44 U.S.C. 3501 et seq.).

List of Subjects

9 CFR Part 74

Animal diseases, Livestock, Quarantine, Reporting and recordkeeping requirements, Transportation.

9 CFR Part 93

Animal diseases, Imports, Livestock, Poultry and poultry products, Quarantine, Reporting and recordkeeping requirements.

Accordingly, we are amending 9 CFR chapter I as follows:

1. In subchapter C, a new part 74 is added to read as follows:

PART 74—PROHIBITION OF INTERSTATE MOVEMENT OF LAND TORTOISES

Sec.
74.1 General prohibition.

Authority: 21 U.S.C. 111-113, 114a, 115, 117, 120, 122-126, 134b, 134f; 7 CFR 2.22, 2.80, and 371.2(d).

§ 74.1 General prohibition.

The interstate movement of leopard tortoise (Geochelone pardalis), African spurred tortoise (Geochelone sulcata), and Bell's hingeback tortoise (Kinixys belliana) is prohibited.

PART 93—IMPORTATION OF CERTAIN ANIMALS, BIRDS, AND POULTRY, AND CERTAIN ANIMAL, BIRD, AND POULTRY PRODUCTS; REQUIREMENTS FOR MEANS OF CONVEYANCE AND SHIPPING CONTAINERS

2. The authority citation for part 93 continues to read as follows:

Authority: 7 U.S.C. 1622; 19 U.S.C. 1306; 21 U.S.C. 102-105, 111, 114a, 134a, 134b, 134c, 134d, 134f, 136, and 136a; 31 U.S.C. 9701; 7 CFR 2.22, 2.80, and 371.2(d).

3. In § 93.701, a new paragraph (c) is added to read as follows:

§ 93.701 Prohibitions.

* * * * *

(c) No person may import leopard tortoise (Geochelone pardalis), African spurred tortoise (Geochelone sulcata), or Bell's hingeback tortoise (Kinixys belliana) into the United States.

Done in Washington, DC, this 16th day of March 2000.
Bobby R. Acord,
Acting Administrator, Animal and Plant Health Inspection Service.

[FR Doc. 00-7014 Filed 3-21-00; 8:45 am]

BILLING CODE 3410-34-U